DEPARTMENT OF HEALTH AND HUMAN SERVICES

Centers for Disease Control and Prevention

Board of Scientific Counselors, Office of Infectious Diseases (BSC, OID)

Notice of Cancellation: A notice was published in the Federal Register on December 27, 2013, Volume 78, Number 249, Pages 78964-78965, announcing an Audio Conference Call of the ABRWH-SDRR on February 6, 2014. This meeting was canceled due to a lack of quorum for the meeting. Notice will be provided when the meeting is rescheduled in accordance with section 10(a)(2) of the Federal Advisory Committee Act (Pub. L. 92-463).

Contact Person for More Information: Theodore Katz, Designated Federal Officer, NIOSH, CDC, 1600 Clifton Road, Mailstop E-20, Atlanta Georgia 30333, Telephone (513) 533-6800, Toll Free 1 (800) CDC-INFO, Email ocas@cdc.gov.

This notice is published less than the required 15 days prior to the start of the announced meeting, in accordance with Section 102-3.150(b) of the GSA Final Rule (2001) that allows for exceptions to the meeting notification time requirement. Section 102-3.150(b) states the following: “In exceptional circumstances, the agency or an independent Presidential advisory committee may give less than 15 calendar days” notice, provided that the reasons for doing so are included in the advisory committee meeting notice published in the Federal Register.”

In this case, the agency is giving less than 15 days' notice due to the inability to have quorum for the meeting.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-03244 Filed 2-13-14; 8:45 am]

BILLING CODE 4163-18-P